DEPARTMENT OF THE INTERIOR

Bureau of Indian Affairs

[AAK6006100 A11550000.999900]

Final Environmental Impact Statement for the Proposed Fee-to-Trust Conveyance of Property and Casino Project for the Stockbridge-Munsee Community, Wisconsin in the Town of Thompson, Sullivan County, New York

AGENCY: Bureau of Indian Affairs, Interior.

ACTION: Notice of availability.

SUMMARY: This notice advises the public that the Bureau of Indian Affairs (BIA) is making available for public review the Final Environmental Impact Statement (FEIS) for the proposed conveyance of 330 ± acres of land into trust status and construction of a gaming complex. The purpose of the proposed action is to help meet the Stockbridge-Munsee Community's (Tribe's) socio-economic needs.

DATES: The Record of Decision (ROD) on the proposed action will be issued on or after March 3, 2014, providing a 30 day waiting period after the Environmental Protection Agency (EPA) issues their Notice of Availability (NOA) of the FEIS in the Federal Register.

ADDRESSES: You may mail, hand carry or telefax written comments to Franklin Keel, Regional Director, Eastern Regional Office, Bureau of Indian Affairs, 545 Marriott Drive, Suite 700, Nashville, Tennessee 37214, Telefax (615) 564-6701. Please see the SUPPLEMENTARY INFORMATION section of this notice for directions for submitting comments and locations where copies of the FEIS are available.

FOR FURTHER INFORMATION CONTACT: Chester McGhee, (615) 564-6830.

SUPPLEMENTARY INFORMATION: The Tribe has requested that the BIA take into trust 330 acres of land on which the Tribe proposes to construct a casino, hotel, parking areas and other facilities. As this request is for land that is off of the Tribe's reservation to be taken into trust for gaming purposes, the Tribe has submitted applications under both the Indian Reorganization Act (25 U.S.C. 465 as implemented in 25 CFR part 151) and the Indian Gaming Reorganization Act (25 U.S.C. 2719 as implemented in 25 CFR part 292). The proposed project is located in the Town of Thompson, New York, just off State Route 17 (future I-86).

The proposed project includes the development of a 350,000 sf gaming facility and a 750-room hotel. The gaming facility would include a casino floor, food and beverage areas (consisting of a buffet, specialty restaurant, bar and coffee bar type facilities), meeting space, guest support services, offices and security area. A multipurpose/event center would cater to 2,700 visitors. Access to the casino would be provided from State Route 17 to County Highway 161. The FEIS considers a range of project alternatives, including: (1) Preferred casino-hotel complex; (2) reduced casino size; (3) alternative financial ventures; (4) different site locations; (5) different site plans and (5) no action.

The preferred casino-hotel complex alternative has been selected as the Tribe's Preferred Alternative as discussed in the FEIS. The information and analysis contained in the FEIS, as well as its evaluation and assessment of the Tribe's Preferred Alternative, are intended to assist the Department of the Interior (Department) in its review of the issues presented in the Tribe's application. The Preferred Alternative does not necessarily reflect the Department's final decision because the Department must further evaluate all of the criteria listed in 25 CFR part 151 and 25 CFR part 292. The Department's consideration and analysis of the applicable regulations may lead to a final decision that selects an alternative other than the Preferred Alternative, including no action, or a variant of the Preferred Alternative or another one of the alternatives analyzed in the FEIS.

Environmental issues addressed in the FEIS include land and water resources, air quality, biological resources, cultural and paleontological resources, socioeconomic conditions, transportation and circulation, land use, public services, noise, hazardous materials, visual resources, environmental justice, cumulative effects, indirect effects and mitigation.

The BIA has afforded other government agencies and the public extensive opportunity to participate in the preparation of this EIS. The BIA published a Notice of Intent (NOI) to prepare the EIS for the proposed action in the Federal Register on November 20, 2003 (68 FR 65467). The BIA held a public scoping meeting on December 4, 2003. A Notice of Availability for the Draft EIS (DEIS) was published in the Federal Register on February 11, 2005 (70 FR 7257). The DEIS was available for public comment until March 28, 2005. The BIA held a public hearing on the DEIS on March 10, 2005. An FEIS, which contained updated analyses in response to public comment, was prepared and submitted to the BIA in November 2006. That FEIS was not released because the underlying land-to-trust application was denied in January 2008. Despite a Notice of Cancellation on March 6, 2008 (73 FR 12204), the environmental review process remained open and was reactivated when the land-into-trust application was reinstated by the BIA in August 2011. That 2006 FEIS was updated based on the passage of time, and the updated FEIS document is now being released for circulation to the public.

Directions for Submitting Comments: Please include your name, return address and the caption, “FEIS Comments, Stockbridge-Munsee Community, Wisconsin, Trust Acquisition and Casino Project” on the first page of your written comments.

Public Availability of the FEIS: Copies of the FEIS will be available for viewing at the following locations during normal business hours:

• E.B. Crawford Public Library, 393 Broadway, Monticello, New York.

• Town Supervisor, Town of Thompson Town Hall, 4052 State Route 42, Monticello, New York.

• County Chairman, Sullivan County Government Center, 100 North Street, Monticello, New York.

Public Comment Availability: Comments, including names and addresses of respondents, will be available for public review at the mailing address for the BIA Eastern Regional Office shown in the ADDRESSES section during regular business hours, 8:00 a.m. to 4:30 p.m. (unless otherwise shown), Monday through Friday, except holidays. Before including your address, phone number, email address, or other personal identifying information in your comment, you should be aware that your entire comment—including your personal identifying information—may be made publicly available at any time. While you may request us in your comment to withhold your personal identifying information from public review, we cannot guarantee that we will be able to do so.

Authority: This notice is published in accordance with section 1503.1 of the Council on Environmental Quality regulations (40 CFR Parts 1500 through 1508) implementing the procedural requirements of the National Environmental Policy Act of 1969, as amended (42 U.S.C. 4321 et seq.), and the Department of Interior Manual (516 DM 1-6), and is in the exercise of authority delegated to the Assistant Secretary—Indian Affairs by 209 DM 8.1.

Dated: January 17, 2014.
Kevin K. Washburn,
Assistant Secretary—Indian Affairs.

[FR Doc. 2014-01682 Filed 1-30-14; 8:45 am]

BILLING CODE 4310-W7-P